COMMITTEE FOR THE IMPLEMENTATION OF TEXTILE AGREEMENTS

Determination under the Textile and Apparel Commercial Availability Provision of the Dominican Republic-Central America-United States Free Trade Agreement (CAFTA-DR Agreement)

February 15, 2007.

AGENCY: Committee for the Implementation of Textile Agreements (CITA).

ACTION: Determination to add a product in unrestricted quantities to Annex 3.25 of the CAFTA-DR Agreement

SUMMARY: The Committee for the Implementation of Textile Agreements (CITA) has determined that certain two-way stretch woven fabric of polyester/rayon/spandex, as specified below, are not available in commercial quantities in a timely manner in the CAFTA-DR region. The product will be added to the list in Annex 3.25 of the CAFTA-DR in unrestricted quantities.

EFFECTIVE DATE: February 22, 2007.

FOR FURTHER INFORMATION CONTACT: Richard Stetson, Office of Textiles and Apparel, U.S. Department of Commerce, (202) 482 2582.

FOR FURTHER INFORMATION ON-LINE:

http://web.ita.doc.gov/tacgi/CaftaReqTrack.nsf. Reference number: 17.2007.01.16.Fabric.Sandler,Travis& RosenbergforLidoIndustries.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On February 23, 2006, CITA published interim procedures it would follow in considering requests to modify the Annex 3.25 list (71 FR 9315).

On January 16, 2007, the Chairman of CITA received a request from Sandler, Travis & Rosenberg, P.A., on behalf of Lido Industries, for certain two-way stretch woven fabric of polyester/rayon/spandex, of the specifications detailed below. On January 18, 2007, CITA notified interested parties of, and posted on its website, the accepted petition and requested that interested entities provide, by January 30, 2007, a response advising of its objection to the request or its ability to supply the subject product, and rebuttals to responses by February 5, 2007.

No interested entity filed a response advising of its objection to the request or its ability to supply the subject product.

In accordance with Section 203(o)(4) of the CAFTA-DR Act, and its procedures, as no interested entity submitted a response objecting to the request or expressing an ability to supply the subject product, CITA has determined to add the specified fabrics to the list in Annex 3.25 CAFTA-DR Agreement.

The subject fabrics are added to the list in Annex 3.25 CAFTA-DR Agreement in unrestricted quantities.

Specifications:

HTS Subheading: | 5515.11.00
Fiber Content: | 60%-75% polyester; 20%-35% viscose rayon; 3% - 6% spandex
Yarn: | Spun on the synthetic or long staple spinning system in order to impart added strength, evenness, luster, and pilling resistance in the fabric
Staple Length: | 44 to 70 mm
Yarn Size (warp and filling): | 40/2 to 84/2 wrapped around 225 to 118 spandex (metric)
Thread Count: | 24 to 44 warp ends x 16 to 32 filling picks per square centimeter
Weave Type: | Various
Weight: | 200 to 300 grams per square meter
Width: | 127 to 152 centimeters
Finish: | Piece dyed and of yarns of different colors.

R. Matthew Priest,
Chairman, Committee for the Implementation of Textile Agreements.

[FR Doc. 07-795 Filed 2-16-07; 2:26 pm]

BILLING CODE 3510-DS